DEPARTMENT OF COMMERCE

National Institute of Standards and Technology

National Conference on Weights and Measures 2024 Annual Meeting

AGENCY: National Institute of Standards and Technology, Commerce.

ACTION: Notice.

SUMMARY: The 109th Annual Meeting of the National Conference on Weights and Measures (NCWM) will be held at the Hotel Cleveland in Cleveland, Ohio from Sunday, July 14, 2024, through Thursday, July 18, 2024. This notice contains information about significant items on the NCWM Committee agendas but does not include all agenda items. As a result, the items are not consecutively numbered.

DATES: The 2024 NCWM Annual Meeting will be held from Sunday, July 14, 2024, through Thursday, July 18, 2024. The meeting schedule will be available on the NCWM website at https://www.ncwm.com/events-detail/2024-annual-OH.

ADDRESSES: This meeting will be held at the Hotel Cleveland, located at 24 Public Square, Cleveland, Ohio 44113.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meeting is open to the public, but the payment of a registration fee is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, cities, and territories of the United States, and representatives from the private sector and federal agencies. These meetings bring together government officials and representatives of business, industry, trade associations, and consumer organizations on subjects related to the field of weights and measures technology, administration, and enforcement. NIST hosted the first meeting of the NCWM in 1905. Since then, the conference has provided a model of cooperation between Federal, State, and local governments and the private sector. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to, inter alia, regulatory officials, industry representatives, and consumers. Comments will be taken by the various NCWM committees on agenda items during the open hearing portions of the conference identified in the meeting schedule. At this stage, the items are proposals. The open hearing sessions are accessible to all registered attendees of the conference, including both NCWM members and non-members. The conference also includes committee work sessions in which the committees may, inter alia, accept comments, withdraw or carry over agenda items that need additional maturation, and develop recommendations for the agenda items for consideration and possible adoption during the voting session of the meeting.

This notice is intended to make interested parties aware of significant agenda items and alert them to the committees' intentions to share reports on the status of each at the 2024 NCWM Annual Meeting. This notice is also presented to invite the participation of manufacturers, experts, consumers, users, and others who may be interested in these efforts.

Comments will be taken on these and other recommendations to amend NIST Handbook 44, “Specifications, Tolerances, and other Technical Requirements for Weighing and Measuring Devices” (NIST Handbook 44 or NIST HB 44), NIST Handbook 130, “Uniform Laws and Regulations in the areas of Legal Metrology and Fuel Quality” (NIST Handbook 130 or NIST HB 130), and NIST Handbook 133, “Checking the Net Contents of Packaged Goods” (NIST Handbook 133 or NIST HB 133).

These NIST Handbooks are regularly adopted by reference or through the administrative procedures of all the states. At this stage these agenda items are only proposals to amend the handbooks.

NCWM S&T Committee

The NCWM Specifications and Tolerances Committee (S&T Committee) will consider proposed amendments to NIST HB 44, including those identified below. These items address weighing and measuring devices used in commercial applications, that is, devices used to buy from or sell to the public or used to determine the quantity of products or the cost of services based on a weight or measurement. For a detailed technical review of the NCWM S&T Committee agenda items, see the 2024 NIST OWM Analysis at 2024 NIST OWM Annual Analysis.

SCL—Scales

SCL-23.3. Verification Scale Division e: Multiple Sections.

The S&T Committee has assigned a Voting status to a proposal submitted by the NCWM Verification Scale Division e Task Group that is intended to update NIST Handbook 44, Section 2.20 Scales to clarify how error is determined in relation to the verification scale division (e) and the scale division (d), clarify which is the proper reference; the verification scale division (e) or the scale division (d) throughout this section, ensure proper selection of a scale in reference to the verification scale division (e) and the scale division (d), and clarify the relationship between the verification scale division (e) and the scale division (d).

WIM—Weigh-In-Motion Systems

WIM-23.1. Add Section 2.26. Weigh-in-Motion Systems Used for Vehicle Direct Enforcement.

The S&T Committee will consider a proposal to add Section 2.26. Weigh-in-Motion Systems Used for Vehicle Direct Enforcement. This also includes (but is not limited to): (1) specifications that direct how a device must be designed. (S); (2) the addition of test procedures specific to devices designed to enforce road weight limit restrictions for vehicles in the test procedures (N) section addressing test speeds, dynamic test loads, and vehicle configurations; (3) the designation of tolerances (T) to be applied to WIM scales used for enforcement purposes; and (4) the addition of selection, installation, maintenance, and violation parameters in the user requirements (UR) for the enforcement of road weight limit restrictions for vehicles based on axle, axle group, and gross vehicle weights. The proposal has been through several revisions since the release of the 2023 NCWM Publication 15. During the 2024 NCWM Interim Meeting, the Committee updated the item based on revised language proposed by the submitter and input received during the meeting. The item was assigned a Voting status.

EVF—Electric Vehicle Fueling Systems

EVF-24.2—S.2.7. Indication of Delivery, N.3.2. Accuracy Testing., and T.2.1. EVSE Load Test Tolerances.

This item proposes to amend the exemption date applicable to DC EV charging equipment from 2028 to 2025 for those paragraphs that include the exemption. Exempting DC systems currently placed into service up through December 31, 2024, from displaying specific sales information and accuracy testing and tolerances. Whereas all other AC and DC EVSE in service must meet all HB 44 display and accuracy requirements and be held to minimum test procedures.

EVF-23.4—S.5.2. EVSE Identification and Marking Requirements, S.5.3. Abbreviations and Symbols, and N.3. Test of an EVSE System. This item proposes to expand EVSE test procedures and amend EVSE marking requirements which are used to identify that the system is in the proper state for testing.

EVF-23.6—S.5.2. EVSE Identification and Marking Requirements., and T.2. Accuracy Test Tolerances. This item proposes to create a new accuracy class for DC EV charging equipment where a ±5% performance tolerance would apply until 2034. This would permit DC systems currently in use and placed into service up through December 31, 2023, a wider accuracy tolerance when marked with the designation “Accuracy Class 5” while other DC systems operate and meet the current ±2% tolerance.

OTH—Other Items

OTH-16.1—Non-Utility Electricity-Measuring Systems (NUEMS)—Tentative Code. This item proposes to create a new NIST HB 44 code section that would apply to electricity meters that are not under the authority of municipal and public utilities. If adopted the code would have a tentative designation which means it would have a trial or experimental status and is not intended to be enforced.

NCWM L&R Committee

The NCWM Laws and Regulations Committee (L&R Committee) will consider proposed amendments to NIST HB 133, including those identified below. A detailed technical review of the L&R Committee agenda items will be made available prior to the 2024 NCWM Annual Meeting in the 2024 NIST OWM Annual Analysis.

NET—NIST Handbook 133

NET-24.1. Section 3.11. Ice Cream Novelties. The L&R Committee will consider a proposal designated as “Voting” to modify NIST HB 133, Section 3.11. Ice Cream Novelties. This is a test procedure that will provide updated technical guidance on the preparation and maintenance of ice water at the required temperature to test ice cream novelties such as ice cream bars, ice cream sandwiches, or cones.

NET-24.2. Section 4.9. Procedure for Checking the Contents of Specific Agriculture Seed Packages Labeled by Count and Appendix D. AOSA Rules for Testing Seeds. The L&R Committee will consider a proposal designated as “Voting” to align NIST HB 133, Section 4.9. Procedure for Checking the Contents of Specific Agriculture Seed Packages Labeled by Count and Appendix D. AOSA Rules for Testing Seeds with recent changes to the Association of Official Seed Analyst (AOSA) Rules. This proposal would provide a standardized mechanical seed counter calibration procedure for all models of mechanical seed counters being used across the United States, to determine the number of seeds per pound and/or for the purpose of packaging seeds by count.

NET 22.1 Section 1.2.6. Deviations Caused by Moisture Loss or Gain and Section 2.3.8. Table 2-3 Moisture Allowances. The L&R Committee will consider a proposal that is designated as “Voting” to Section 1.2.6. Deviations Caused by Moisture Loss or Gain and Section 2.3.8. Table 2-3 Moisture Allowances. This proposal would provide for a 3% moisture allowance for packages of Cannabis plant material containing more than 0.3% total delta-9 THC (Cannabis, Marijuana, or Marihuana ¹) or containing 0.3% less total delta-9 THC (hemp). Deviations from the net quantity of contents caused by the loss or gain of moisture from the package are permitted when they are caused by ordinary and customary exposure to conditions that normally occur in good distribution practices and that unavoidably result in a change of weight or measure.

¹ In contrast to hemp, marijuana, which is defined as cannabis with a tetrahydrocannabinol (THC) concentration of more than 0.3 percent on a dry weight basis, remains a Schedule I substance under the Controlled Substances Act (CSA). 21 U.S.C. 812(d); 21 CFR 1308.11(d)(23).

Alicia Chambers,
NIST Executive Secretariat.

[FR Doc. 2024-12191 Filed 6-3-24; 8:45 am]

BILLING CODE 3510-13-P